DEPARTMENT OF THE INTERIOR

Minerals Management Service

Agency Information Collection Activities: Submitted for Office of Management and Budget Review, Comment Request

AGENCY: Minerals Management Service (MMS), Interior.

ACTION: Notice of extension of a currently approved information collection (OMB Control Number 1010-0064).

SUMMARY: To comply with the Paperwork Reduction Act (44 U.S.C. 3501 et seq.), we are notifying you that we have submitted an information collection request (ICR) to the Office of Management and Budget (OMB) to request an extension of OMB's approval for a currently approved information collection. We are also soliciting your comments on this ICR which describes the information collection, its expected costs and burden, and how the data will be collected.

DATES: Written comments should be received on or before June 23, 2000.

ADDRESSES: You may submit comments directly to the Office of Information and Regulatory Affairs, OMB, Attention: Desk Officer for the Department of the Interior (OMB Control Number 1010-0064), 725 17th Street, NW, Washington, DC 20503. Copies of these comments should also be sent to David S. Guzy, Chief, Rules and Publications Staff, Minerals Management Service, Royalty Management Program, P.O. Box 25165, MS 3021, Denver, Colorado 80225. Courier address is Building 85, Room A-613, Denver Federal Center, Denver, Colorado 80225. Email address is RMP.comments@mms.gov.

Public Comment Procedure

Please submit Internet comments as an ASCII file avoiding the use of special characters and any form of encryption. Please also include Attn: Payor Information Form—Solid Minerals, Form MMS-4030, OMB Control Number 1010-0064, and your name and return address in your Internet message. If you do not receive a confirmation from the system that we have received your Internet message, contact David S. Guzy directly at (303) 231-3432.

We will post public comments after the comment period closes on the Internet at http://www.rmp.mms.gov. You may arrange to view paper copies of the comments by contacting David S. Guzy, Chief, Rules and Publications Staff, telephone (303) 231-3432, FAX (303) 231-3385. Our practice is to make comments, including names and addresses of respondents, available for public review on the Internet and during regular business hours at our offices in Lakewood, Colorado. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Dennis C. Jones, Rules and Publications Staff, phone (303) 231-3046, FAX (303) 231-3385, email Dennis.C.Jones@mms.gov.

SUPPLEMENTARY INFORMATION: Title: Payor Information Form—Solid Minerals.

Bureau Form Number: Form MMS-4030.

OMB Control Number: 1010-0064.

Abstract: The Department of the Interior is responsible for matters relevant to mineral resource development on Federal and Indian Lands and the Outer Continental Shelf (OCS). The Secretary of the Interior is responsible for managing the production of minerals from Federal and Indian Lands and the OCS; for collecting royalties from lessees who produce minerals; and for distributing the funds collected in accordance with applicable laws. MMS performs the royalty management functions for the Secretary.

MMS' Royalty Management Program is proposing to continue the use of Form MMS-4030 to be used by royalty payors on Federal or Indian mineral leases. The information on Form MMS-4030 is used to establish a database of new payors/leases, lease-level (rent, advance and minimum royalty) obligations, other royalty/lease data, and to change existing royalty/lease data.

The PRA provides that an agency may not conduct or sponsor, and a person is not required to respond to, a collection of information unless it displays a currently valid OMB Control Number. A 60-day Federal Register notice soliciting comments on this collection of information was published on December 8, 1999 (64 FR 68700). No comments were received.

Respondents/Affected Entities: Royalty payors.

Frequency of Response: On occasion, annually.

Estimated Number of Respondents: 130 payors.

Estimated Annual Reporting and Recordkeeping “Hour” Burden: 173 burden hours. Refer to the following chart:

Citations | Reporting and recordkeeping requirements | Frequency | Number | Burden | Total annual burden hours
30 CFR 210.201 | Complete and submit Form MMS-4030 | Annual | 130 | 1 hour | 130 hours
30 CFR 212.50 | Maintain records for 6 years | Annual | 130 | .333 hours | 43 hours
Total |  |  | 130 |  | 173

Estimated Annual Reporting and Recordkeeping “Non-Hour Cost” Burden: We have identified no cost burdens for this collection.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Send your comments directly to the offices listed under the ADDRESSES section of this notice. OMB has up to 60 days to approve or disapprove the information collection but may respond after 30 days. Therefore, to ensure maximum consideration, OMB should receive public comments by June 23, 2000.

MMS Information Collection Clearance Officer: Jo Ann Lauterbach (202) 208-7744 .

Dated: April 24, 2000.
R. Dale Fazio,
Acting Associate Director for Royalty Management.

[FR Doc. 00-13020 Filed 5-23-00; 8:45 am]

BILLING CODE 4310-MR-P